DEPARTMENT OF LABOR

Employment and Training Administration

[TA-W-52,719]

Padgett Furniture Manufacturing Company, Inc.; Calhoun, TN; Notice of Termination of Investigation

Pursuant to section 221 of the Trade Act of 1974, as amended, an investigation was initiated on September 2, 2003, in response to a petition filed by a company official on behalf of workers at Padgett Furniture Manufacturing Company, Inc., Calhoun, Tennessee.

The petitioner has requested that the petition be withdrawn. Consequently, the investigation has been terminated.

Signed at Washington, DC, this 11th day of September, 2003.
Linda G. Poole,
Certifying Officer, Division of Trade Adjustment Assistance.

[FR Doc. 03-27440 Filed 10-30-03; 8:45 am]

BILLING CODE 4510-30-P